DEPARTMENT OF THE INTERIOR

National Park Service

[NPS-WASO-NAGPRA-NPS0026437; PPWOCRADN0-PCU00RP14.R50000]

Notice of Intent To Repatriate Cultural Items: Sternberg Museum of Natural History, Hays, KS

AGENCY: National Park Service, Interior.

ACTION: Notice.

SUMMARY: The Sternberg Museum of Natural History, in consultation with the appropriate Indian Tribes or Native Hawaiian organizations, has determined that the cultural item listed in this notice meets the definition of an unassociated funerary object. Lineal descendants or representatives of any Indian Tribe or Native Hawaiian organization not identified in this notice that wish to claim this cultural item should submit a written request to the Sternberg Museum of Natural History. If no additional claimants come forward, transfer of control of the cultural items to the lineal descendants, Indian Tribes, or Native Hawaiian organizations stated in this notice may proceed.

DATES: Lineal descendants or representatives of any Indian Tribe or Native Hawaiian organization not identified in this notice that wish to claim this cultural item should submit a written request with information in support of the claim to the Sternberg Museum of Natural History at the address in this notice by November 16, 2018.

ADDRESSES: Dr. Laura E. Wilson, Sternberg Museum of Natural History, 3000 Sternberg Drive, Hays, KS 67601, telephone (785) 639-6192, email lewilson6@fhsu.edu.

SUPPLEMENTARY INFORMATION: Notice is here given in accordance with the Native American Graves Protection and Repatriation Act (NAGPRA), 25 U.S.C. 3005, of the intent to repatriate a cultural item under the control of the Sternberg Museum of Natural History, Hays, KS, that meets the definition of an unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In 1928, one cultural item was removed from Nogales in Santa Cruz County, AZ. One empty olla, identified as a Hohokam plain ware vessel, was uncovered during an operation to lower and pave a street. It was donated by Mr. James W. Haddock of Nogales High School in 1929.

Mr. Peter Steere, Tribal Historic Preservation Officer for the Tohono O'odham Nation, identified the olla as a Hohokam plain ware vessel that dates to A.D. 1000-1400. The Hohokam are regarded as the ancestors of the Tohono O'odham Nation, and the Nogales area of Southern Arizona is within the geographic area covered by the Tohono O'odham Nation under NAGPRA repatriation.

Determinations Made by the Sternberg Museum of Natural History

Officials of the Sternberg Museum of Natural History have determined that:

• Pursuant to 25 U.S.C. 3001(3)(B), the one cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and the Tohono O'odham Nation of Arizona.

Additional Requestors and Disposition

Lineal descendants or representatives of any Indian Tribe or Native Hawaiian organization not identified in this notice that wish to claim this cultural item should submit a written request with information in support of the claim to Dr. Laura E. Wilson, Sternberg Museum of Natural History, 3000 Sternberg Drive, Hays, KS 67601, telephone (785) 639-6192, email lewilson6@fhsu.edu, by November 16, 2018. After that date, if no additional claimants have come forward, transfer of control of the unassociated funerary object to the Tohono O'odham Nation of Arizona may proceed.

The Sternberg Museum of Natural History is responsible for notifying the Tohono O'odham Nation of Arizona that this notice has been published.

Dated: September 6, 2018.
Melanie O'Brien,
Manager, National NAGPRA Program.

[FR Doc. 2018-22588 Filed 10-16-18; 8:45 am]

BILLING CODE 4312-52-P